POSTAL SERVICE

Temporary Emergency Committee of the Board of Governors; Sunshine Act Meeting

DATES AND TIMES: Wednesday, June 20, 2018, at 9:00 a.m.

PLACE: Washington, DC.

STATUS: Closed.

MATTERS TO BE CONSIDERED: Wednesday, June 20, 2018, at 9:00 a.m.

1. Financial Matters.

2. Strategic Items.

3. Executive Session—Discussion of prior agenda items and Temporary Emergency Committee governance.

GENERAL COUNSEL CERTIFICATION: The General Counsel of the United States Postal Service has certified that the meeting may be closed under the Government in the Sunshine Act.

CONTACT PERSON FOR MORE INFORMATION: Michael J. Elston, Acting Secretary of the Board, U.S. Postal Service, 475 L'Enfant Plaza SW, Washington, DC 20260-1000. Telephone: (202) 268-4800.

Michael J. Elston,
Acting Secretary.

[FR Doc. 2018-12868 Filed 6-12-18; 11:15 am]

BILLING CODE 7710-12-P